DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment— 1/8/2009 Through 2/28/2009
Firm | Address | Date accepted for filing | Products
Carman Ranch, LLC | 67357 Promise Road, Wallowa, OR 97885 | 1/29/2009 | Live beef cattle, both calves and adults, and grains such as barley. Services include some equipment rental and custom farming.
Lumax Industries, Inc. | Chestnut Avenue & 4th, Altoona, PA 16603 | 2/10/2009 | Manufactured commercial, industrial, security, vandal resistant, residential and specialty lighting products.
Tellenar, Inc | 727 Tek Drive, Crystal Lake, IL 60014 | 2/17/2009 | Metal stamped electrical connectors, switchers and components for the automotive and appliances industries.
RCG Foods of Texas Inc. | 109 Palm, El Paso, TX 79901 | 2/12/2009 | Fully cooked and packaged food for human consumption.
Xytronics Ltd. | 8001 Mainland Dr., San Antonio, TX 78250 | 1/8/2009 | Parts and accessories for electronic products.
Pat-Cin Enterprises, Inc. | 10884 Leroy Drive, Northglenn, CO 80233 | 2/12/2009 | Printed circuit boards.
Dumore Corporation | 1030 Veterans Street, Mauston, WI 53948 | 1/30/2009 | Electronic motor and electric gear motor manufacturer.
Hoffco, Inc. | North State Highway 274, Wood Lake, MN 56297 | 2/25/2009 | Wood kitchen cabinets designed for permanent installation.
Mak Metals, Inc. | 850 SE Monmouth Cutoff, Dallas, OR 97338 | 2/12/2009 | Aluminum, stainless steel, and steel enclosures for many industries including transportation, traffic, and electronics businesses.
Calumet Electronics Corporation | 25830 Depot St., Calumet, MI 49913 | 2/3/2009 | Printed circuit boards.
Riverdale Mills Corporation | 130 Riverdale Street, PO Northbridge, MA 01534 | 2/4/2009 | Welded wire mesh.
Mystic Valley Traders LLC | 106 Cummings Park, Woburn, MA 01801 | 2/4/2009 | High-end, bed linens and home furnishings.
Osborne Wood Products, Inc. | Toccoa, GA 30577 | 2/18/2009 | Table legs, kitchen island legs, balusters, bed posts, corbels and moldings.
File-Ez Folder Inc. | E 4111 Mission PO Box, Spokane, WA 99210 | 2/18/2009 | Paper-based products.
Col Pump Company, Inc. | 131 East Railroad Street, Columbiana, OH 44408 | 2/5/2009 | Housings, bodies, bases and other gray iron castings.
Wilton Armetale | 903 Square Street, Mount Joy, PA 17552 | 2/3/2009 | Aluminum-based serve ware and cookware.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: February 27, 2009.
William P. Kittredge,
Program Officer for TAA.

[FR Doc. E9-4739 Filed 3-4-09; 8:45 am]

BILLING CODE 3510-24-P